FEDERAL COMMUNICATIONS COMMISSION

[FR ID 142415]

Deletion of Item From May 18, 2023 Open Meeting

The following item was released by the Commission on May 17, 2023 and deleted from the list of items scheduled for consideration at the Thursday, May 18, 2023, Open Meeting. The item was previously listed in the Commission's Sunshine Notice on Thursday, May 11, 2023.

4 | Media | Title: Restricted Adjudicatory Matter.
|  | Summary: The Commission will consider a restricted adjudicatory matter.

Federal Communications Commission.
Dated: May 18, 2023.
Marlene Dortch,
Secretary.

[FR Doc. 2023-11116 Filed 5-24-23; 8:45 am]

BILLING CODE 6712-01-P